DEPARTMENT OF THE INTERIOR

Office of Surface Mining Reclamation and Enforcement

30 CFR Part 946

Virginia

CFR Correction

In Title 30 of the Code of Federal Regulations, part 700 to end, revised as of July 1, 2003, on page 659, § 946.16 is removed.

[FR Doc. 04-55502 Filed 3-9-03; 8:45 am]

BILLING CODE 1505-01-D